DEPARTMENT OF ENERGY

Federal Energy Regulatory Commission

[Docket No. RP01-276-000]

Natural Gas Pipeline Company of America; Notice of Termination of Gathering Service

March 28, 2001.

Take notice that on March 22, 2001, Natural Gas Pipeline Company of America (Natural), tendered for filing in Docket No. RP01-276-000 a request pursuant to section 4 of the Natural Gas Act, 15 U.S.C. 717c, and the Federal Energy Regulatory Commission's (Commission) policy set forth in its order on rehearing in Arkla Gathering Services Company, 69 FRC ¶61,280 (1994) for authorization to terminate services through prevoiusly certificated and uncertificated gathering facilities located in Eddy County, New Mexico (North Indians Hills and Box Draw Area Facilities) effective April 23, 2001. Natural intends to sell these facilities to Fasken Oil and Ranch, Ltd.

Natural states that copies of the filing have been mailed to the customers which are currently receiving service via the North Indian Hills and Box Draw Facilities and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before April 4, 2001. Protests will be considerred by the Commission in determining the appropriate action to be taken, but will not serve to make protestants parties to the proceedings. Any pereson wishing to become a party must file a motion to intervene. Copies of this filing are on file with the Commission and are available for public inspection in the Public Reference Room. This filing may be viewed on the web at http://www.ferc.fed.us/online/rims.htm (call 202-208-2222 for assistance). Comments protests, and interventions may be filed e electronically via the internet in lieu of paper. See, 18 CFR 385.2001(a)(1)(iii) and the inspections on the Commission's web site http://www.ferc.fed.us/efi/doorbell.htm.

Linwood A. Watson, Jr.,
Acting Secretary.

[FR Doc. 01-8251 Filed 4-3-01; 8:45 am]

BILLING CODE 6717-01-M